DEPARTMENT OF THE INTERIOR

National Park Service

Notice of Termination of Preparation of an Environmental Impact Statement for the Special Resource Study for the Delaware Coastal Area in the State of Delaware

AGENCY: National Park Service, Department of the Interior.

ACTION: Termination of preparation of an environmental impact statement.

SUMMARY: This notice announces the termination of the process to develop an Environmental Impact Statement (EIS) for the Special Resource Study for the Delaware Coastal Area. The study area includes the coastal regions of the state of Delaware. A Notice of Intent to Prepare an Environmental Impact Statement was published in the Federal Register on May 31, 2007.

Subsequent scoping did not reveal the potential for significant adverse impacts or controversy; therefore, it was determined that an EA would suffice to address National Environmental Policy Act requirements for this study.

The Delaware National Coastal Special Resource Study and Environmental Assessment was made available for public review starting 12/1/2008, and the comment period ended 12/31/2008. Based on the results of public comments, a Finding of No Significant Impact (FONSI) was prepared for review and approval by the NPS Northeast Regional Director.

The study report can be viewed at the NPS Planning, Environment and Public Comment (PEPC) Web site at: http://parkplanning.nps.gov/.

FOR FURTHER INFORMATION CONTACT: Terrence Moore, Chief of Park Planning and Compliance, National Park Service, Northeast Region, 200 Chestnut Street, 3rd Floor, Philadelphia, PA 19106.

Dated: November 20, 2008.
Dennis R. Reidenbach,
Director, Northeast Region, National Park Service.

[FR Doc. E9-22 Filed 1-6-09; 8:45 am]

BILLING CODE 4312-J6-P